DEPARTMENT OF THE INTERIOR

National Park Service

National Register of Historic Places; Notification of Pending Nominations

Nominations for the following properties being considered for listing in the National Register were received by the National Park Service before October 5, 2002. Pursuant to section 60.13 of 36 CFR Part 60 written comments concerning the significance of these properties under the National Register criteria for evaluation may be forwarded by United States Postal Service, to the National Register Historic Places, National Park Service, 1849 C St. NW., NC400, Washington, DC 20240; by all other carriers, National Register of Historic Places, National Park Service, 1201 Eye St. NW., 8th floor, Washington DC 20005; or by fax, 202-343-1836. Written or faxed comments should be submitted by November 12, 2002.

Paul R. Lusignan,
Acting Keeper of the National Register of Historic Places.

GEORGIA

Cobb County

Cowen, Stephen D., House, 4940 Cowen Rd., Acworth, 02001299

KANSAS

Cloud County

Glasco Downtown Historic District, Roughly along Main St. from Railroad Av. to Fisher St., and Along Railroad Ave and Fisher St. bet Main and Buffalo Sts., Glasco, 02001307

Shawnee County

Holliday Park Historic District I, Roughly bounded by 10th Ave., Taylor, Polk, Huntoon, Clay and Fillmore Sts., Topeka, 02001308

Holliday Park Historic District II, 1009, 1015, 1019, 1021, 1025, 1031, 1035 SW Fillmore St., Topeka, 02001309

MISSOURI

Cole County

Broadway—Dunklin Historic District, (Southside Munichburg, Missouri MPS) Most of 600 Blk of Broadway, and the 200 and 300 Blks of West Dunklin St., Jefferson City, 02001300

Burch, Nelson C. and Gertrude A., House, (Southside Munichburg, Missouri MPS) 115 W. Atchison St., Jefferson City, 02001302

Burch, Oscar G. and Mary H., House, (Southside Munichburg, Missouri MPS) 924 Jefferson St., Jefferson City, 02001301

Grove, Claud D and Berenice Sinclair Grove House, 505 E. State St., Jefferson City, 02001310

Hess, Philip, House, (Southside Munichburg, Missouri MPS), 714 Washington St., Jefferson City, 02001304

Schmidt, Charles J. and Clara B. House, (Southside Munichburg, Missouri MPS), 215 W. Atchison St., Jefferson City, 02001303

Thomas, Albert and Wilhelmina, House, (Southside Munichburg, Missouri MPS), 224 W. Elm St., Jefferson City, 02001305

Zuendt, William E. and Frederica M., House, (Southside Munichburg, Missouri MPS), 920 Jefferson St., Jefferson City, 02001306

Lincoln County

Soil Erosion Nursery, United States Department of Agriculture, 2803 N MO 79, Elsberry, 02001311

New York

Columbia County

Requa House, 9 Requa Rd., Stuyvesant, 02001325

Delaware County

West Kortright Presbyterian Church, 49 W. Kortright Church Rd., West Kortright, 02001326

Erie County

Hellenic Orthodox Church of the Annunciation, Address Restricted, Buffalo, 02001329

Jefferson County

Holland Library, 7 Market St., Alexandria Bay, 02001330

Livingston County

Williamsburg Cemetery, Abel Rd., Hampton Corners, 02001328

Montgomery County

Pawling Hall, 86 Pawling St., Hagaman, 02001331

Niagara County

Bixby, Constant Riley W., House, 2888 Carmen Rd., Hartland, 02001333

Bradley, Amzi, Farmstead, 8915 Bradley Rd., Hartland, 02001332

Newton, Philo Cobblestone House, (Cobblestone Architecture of New York State MPS), 3573 Wruck Rd., Hartland, 02001334

Oneida County

Deansboro Railroad Station, 2707 NY 315, Deansboro, 02001327

Ulster County

Dubois—Sarles Octagon, 16 South St., Marlboro, 02001322

House at 184 Albany Avenue, (Albany Avenue, Kingston, Ulster County, New York MPS), 184 Albany Ave., Kingston, 02001317

House at 313 Albany Avenue, (Albany Avenue, Kingston, Ulster County, New York MPS), 313 Albany Ave., Kingston, 02001313

House at 322 Albany Avenue, (Albany Avenue, Kingston, Ulster County, New York MPS), 322 Albany Ave., Kingston, 02001318

House at 322 Albany Avenue, (Albany Avenue, Kingston, Ulster County, New York MPS), 322 Albany Ave., Kingston, 02001319

Kirkland Hotel, 2 Main St., Kingston, 02001323

Payne, Col. Oliver Hazard, Estate, US 9W, Esopus, 02001324

Reformed Protestamt Dutch Church of Klyne Esopus, 764 U.S. 9W, Esopus, 02001321

Sharp Burial Ground, (Albany Avenue, Kingston, Ulster County, New York MPS), Albany Ave., Kingston, 02001320

Smith, George J., House, (Albany Avenue, Kingston, Ulster County, New York MPS), 109 Albany Ave., Kingston, 02001316

Smith, John, House, (Albany Avenue, Kingston, Ulster County, New York MPS), 103 Albany Ave., Kingston, 02001315

Ten Broeck, Jacob, Stone House, (Albany Avenue, Kingston, Ulster County, New York MPS), 169 Albany Ave., Kingston, 02001312

PENNSYLVANIA

Fayette County

Aaron Building, Pittsburgh St. and Apple St., Connellsville, 02001336

Colonial National Bank Building, 101 E. Crawford St., Connellsville, 02001337

McClenathan, J.C., Dr., House and Office, 134 S. Pittsburgh St., Connellsville, 02001335

TENNESSEE

Davidson County

Oglesby School, 5724 Edmondson Pike, Nashville, 02001340

Overton County

Alpine Institute, TN 52, Alpine, 02001339

Warren County

First Methodist Church, 200 W. Main St., McMinnville, 02001341

Weakley County

First Christian Church, College St., Gleason, 02001338

VERMONT

Windham County

First Congregational Church and Meetinghouse, (Religious Buildings, Sites and Structures in Vermont MPS), Near jct. of VT 30 and VT 35, Townshend, 02001344

Windsor County

Saddlebow Farm, 2477 Gold Coast Rd., Bridgewater, 02001345

WISCONSIN

Crawford County

Commercial Hotel, 201 W. Blackhawk Ave., Prairie du Chien, 02001342

Dane County

Wisconsin Wagon Company Factory, 602 Railroad St., Madison, 02001343

[FR Doc. 02-27246 Filed 10-24-02; 8:45 am]

BILLING CODE 4310-70-P